DEPARTMENT OF JUSTICE

Antitrust Division

Notice Pursuant to the National Cooperative Research and Production Act of 1993—DVD Copy Control Association (“DVD CCA”)

Notice is hereby given that, on April 12, 2002, pursuant to section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Action Electronics Co., Ltd., Chung Li, Taiwan; Alcorn McBride, Inc., Orlando, FL; Creative Technology Ltd., Singapore, Singapore; DVS Korea Co. Ltd, Sungnam City, Kyungki-do. Republic of Korea; Denca Industrial Limited, Kowloon, Hong Kong-China; First International Computer, Inc., Taipei Hsien, Taiwan; Gema O.D. S.A., Barcelona, Spain; KD Media, Inc., Seol, Republic of Korea; Media Group, Inc., Fremont, CA; Megatron Co., Ltd., Seoul, Republic of Korea; Novac Co., Ltd., Bunkyo-ku, Tokyo, Japan; SDC Denmark A/S, Sakskobing, Denmark; STMicroelectronics, Inc., Carrollton, TX; UP Technology, Yangcheon-Gu, Seoul, Republic of Korea; and Videolar S/A, Barueri, Brazil have been added as parties to this venture.

Also, Beijing Durban Yu Change Electronics Co. Ltd., Kowloon, Hong Kong-China; Diversion Technologies, Inc., Castro Valley, CA; Dragon DVD Technology Sdn Bhd, Kuala Lumpur, Malaysia; Ngai Lik Electronics Co., Ltd., Kowloon, Hong Kong-China; Kanematsu Corporation, Tokyo, Japan; Nokia Corporation, Espoo, Finland; and P.T. Hartono Istana Teknologies, Kudos, Indonesia have been dropped as parties to this venture.

No other changes have been made in either the membership or planned activity of the group research project. Membership in this group research project remains open, and DVD Copy Control Association (“DVD CCA”) intends to file additional written notification disclosing all changes in membership.

On April 11, 2001, DVD Copy Control Association (“DVD CCA”) filed its original notification pursuant to section 6(a) of the Act. The Department of Justice published a notice in the Federal Register pursuant to Section 6(b) of the Act on August 3, 2001 (66 FR 40727).

The last notification was filed with the Department on January 15, 2002. A notice was published in the Federal Register pursuant seciton 6(b) of the Act on March 25, 2002 (67 FR 13662).

Constance K. Robinson,
Director of Operations, Antitrust Division.

[FR Doc. 02-13304 Filed 5-28-02; 8:45 am]

BILLING CODE 4410-11-M